FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at www.ffiec.gov/nic/.

Unless otherwise noted, comments regarding each of these applications must be received at the Reserve Bank indicated or the offices of the Board of Governors not later than September 9, 2002.

A. Federal Reserve Bank of Richmond (A. Linwood Gill, III, Vice President) 701 East Byrd Street, Richmond, Virginia 23261-4528:

1. First Citizens Bancorporation of South Carolina, Inc., Columbia, South Carolina; to merge with C B Financial Corp., Warrenton, Georgia, and thereby indirectly acquire Citizens Bank, Warrenton, Georgia.

B. Federal Reserve Bank of Atlanta (Sue Costello, Vice President) 1000 Peachtree Street, N.E., Atlanta, Georgia 30309-4470:

1. MCB Financial Group, Inc., Carrollton, Georgia; to become a bank holding company by acquiring 100 percent of the voting shares of McIntosh Commercial Bank (in organization), Carrollton, Georgia.

2. GB&T Bancshares, Inc., Gainesville, Georgia; to acquire 100 percent of the voting shares of Hometown Bank of Villa Rica, Villa Rica, Georgia.

3. NW Services Corporation, Ringgold, Georgia; to acquire 100 percent of the voting shares of The Bank of Sharon, Sharon, Tennessee.

C. Federal Reserve Bank of St. Louis (Randall C. Sumner, Vice President) 411 Locust Street, St. Louis, Missouri 63166-2034:

1. State Capital Corporation, and State Bank & Trust Company Employee Stock Ownership Plan, both of Greenwood Mississippi; to acquire up to 100 percent of the voting shares of Mississippi Southern Bank, Port Gibson, Mississippi.

2. State Bank & Trust Company Employee Stock Ownership Plan, Greenwood, Mississippi; to become a bank holding company by acquiring 25.08 percent of the voting shares of State Capital Corporation, Greenwood, Mississippi, and thereby indirectly acquire State Bank & Trust Company, Cleveland, Mississippi

D. Federal Reserve Bank of San Francisco (Maria Villanueva, Consumer Regulation Group) 101 Market Street, San Francisco, California 94105-1579:

1. New Corporation, Oakland, California; to become a bank holding company by acquiring 100 percent of the voting shares of Met Financial Corporation, Oakland, California, and thereby indirectly acquire Metropolitan Bank, Oakland, California.

Board of Governors of the Federal Reserve System, August 9, 2002.
Robert deV. Frierson,
Deputy Secretary of the Board.

[FR Doc. 02-20680 Filed 8-14-02; 8:45 am]

BILLING CODE 6210-01-S